DEPARTMENT OF HOMELAND SECURITY

Coast Guard

DEPARTMENT OF TRANSPORTATION

Maritime Administration

[USCG-2005-22219]

Northeast Gateway Energy Bridge, L.L.C., Liquefied Natural Gas Deepwater Port License Application

AGENCY: Coast Guard, DHS; Maritime Administration, DOT.

ACTION: Notice of application.

SUMMARY: The Coast Guard and the Maritime Administration (MARAD) announce that they have received an application for the licensing of a natural gas deepwater port, and that the application appears to contain the required information. This notice summarizes the applicant's plans and the procedures that will be followed in considering the application.

DATES: The Deepwater Port Act of 1974, as amended, requires any public hearing on this application to be held not later than May 1, 2006, and requires a decision on the application to be made not later than July 31, 2006.

ADDRESSES: The public docket for USCG-2005-22219 is maintained by the: Docket Management Facility, U.S. Department of Transportation, 400 Seventh Street SW., Washington, DC 20590-0001.

Docket contents are available for public inspection and copying, at this address, in room PL-401, between 9 a.m. and 5 p.m., Monday through Friday, except Federal holidays. The Facility's telephone is 202-366-9329, its fax is 202-493-2251, and its Web site for electronic submissions or for electronic access to docket contents is http://dms.dot.gov.

FOR FURTHER INFORMATION CONTACT: Roddy Bachman, U.S. Coast Guard, telephone: 202-267-1752, email: RBachman@comdt.uscg.mil. If you have questions on viewing the docket, call Andrea M. Jenkins, Program Manager, Docket Operations, telephone: 202-366-0271.

SUPPLEMENTARY INFORMATION:

Receipt of Application

On June 13, 2005, the Coast Guard and MARAD received an application from Northeast Gateway Energy Bridge, L.L.C., a subsidiary of Excelerate Energy Limited Partnership, for all Federal authorizations required for a license to own, construct, and operate a deepwater port governed by the Deepwater Port Act of 1974, as amended, 33 U.S.C. 1501 et seq. (the Act). On August 19, 2005, we determined that the application contains all information required by the Act.

Background

According to the Act, a deepwater port is a fixed or floating manmade structure other than a vessel, or a group of structures, located beyond State seaward boundaries and used or intended for use as a port or terminal for the transportation, storage, and further handling of oil or natural gas for transportation to any State.

Adeepwater port must be licensed by the Secretary of Transportation. Statutory and regulatory requirements for licensing appear in 33 U.S.C. 1501 et seq. and in 33 CFR Part 148. Under delegations from and agreements between the Secretary of Transportation and the Secretary of Homeland Security, applications are processed by the Coast Guard and MARAD. Each application is considered on its merits.

The Act provides strict deadlines for processing an application. Once we determine that an application contains the required information, we must hold public hearings on the application within 240 days, and the Secretary of Transportation must render a decision on the application within 330 days. We will publish additional Federal Register notices to inform you of these public hearings and other procedural milestones, including environmental review. The Secretary's decision, and other key documents, will be filed in the public docket.

At least one public hearing must take place in each adjacent coastal State. For purposes of the Act, Massachusetts is the adjacent coastal State for this application. Other States can apply for adjacent coastal State status in accordance with 33 U.S.C. 1508(a)(2).

Summary of the Application

Northeast Gateway Energy Bridge, L.L.C., has proposed a facility to import liquefied natural gas (LNG) into the New England region providing a base load delivery of 400 million cubic feet per day (MMcfd) and capable of peak deliveries of approximately 800 MMcfd or more. The facility will be located offshore in Massachusetts Bay, approximately 13 miles south-southeast of the city of Gloucester, MA, in federal waters approximately 270 to 290 feet in depth, commonly referred to as Block 125.

Northeast Gateway will deliver natural gas to onshore markets via a new 24-inch pipeline, approximately 16.4 miles in length, from the proposed deepwater port to the existing offshore 30-inch Algonquin HubLine Pipeline System. The proposed new pipeline lateral will be owned and operated by Algonquin Gas Transmission. Algonquin is seeking Federal Energy Regulatory Commission approval for the pipeline concurrent with this deepwater port application. The new pipeline will also be included in the National Environmental Policy Act review as part of the deepwater port application process.

The Northeast Gateway facility will consist of two subsea submerged turret loading buoys (STL buoys), two flexible risers, two pipeline end manifolds (PLEMs), and two subsea flow lines. Each STL buoy will connect to a PLEM using the flexible riser assembly, and the PLEM will connect to the subsea flow line. A fleet of specially designed Energy Bridge regasification vessels (EBRVs), each capable of transporting approximately 4.9 million cubic feet (138,000 cubic meters) of LNG, will deliver natural gas to the Northeast Gateway deepwater port.

The EBRVs will vaporize the LNG in a closed Loop mode of recirculating fresh water on-board the ship requiring no intake or discharge of seawater. Natural gas fired boilers will be used to generate steam for the regasification facilities as well as to provide vessel electrical needs in normal operation.

Dated: August 29, 2005.
Howard L. Hime,
Acting Director of Standards, Marine Safety, Security,and Environmental Protection, U.S. Coast Guard.
H. Keith Lesnick,
Senior Transportation, Specialist, Deepwater Ports, Program Manager, U.S. Maritime Administration.

[FR Doc. 05-17553 Filed 9-1-05; 8:45 am]

BILLING CODE 4910-15-P